DEPARTMENT OF LABOR

Employment and Training Administration

[TA-W-40,039]

TNS Mills Inc., Rockingham Plant, Rockingham, NC; Notice of Negative Determination Regarding Application for Reconsideration

By application dated March 19, 2002, the company, requested administrative reconsideration of the Department's negative determination regarding eligibility for workers and former workers of the subject firm to apply for Trade Adjustment Assistance (TAA). The denial notice was signed on February 15, 2002 and published in the Federal Register on February 28, 2002 (67 FR 9324).

Pursuant to 29 CFR 90.18(c) reconsideration may be granted under the following circumstances:

(1) If it appears on the basis of facts not previously considered that the determination complained of was erroneous;

(2) If it appears that the determination complained of was based on a mistake in the determination of facts not previously considered; or

(3) If in the opinion of the Certifying Officer, a misinterpretation of facts or of the law justified reconsideration of the decision.

The TAA petition, filed on behalf of workers at TNS Mills Incorporated, Rockingham Plant, Rockingham, North Carolina engaged in the production of ring spun carded cotton yarn, was denied because the “contributed importantly” group eligibility requirement of section 222(3) of the Trade Act of 1974, as amended, was not met. The “contributed importantly” test is generally demonstrated through a survey of the workers' firm's customers. The Department conducted a survey of the subject company's major customers regarding their purchases of ring spun carded cotton yarn. The survey revealed that none of the customers increased their import purchases of ring spun carded cotton yarn during the relevant period.

The petitioner alleges that various customers of the subject firm were certified for TAA. Therefore, they believe that due to the number of customers certified for TAA, they should be certified for TAA.

The certification of the subject firm's customers is irrelevant unless the customers are affiliated with the subject firm by corporate ownership. If there was corporate affiliation the workers could receive consideration for eligibility under TAA. The customers certified under TAA were outside the TNS Mills corporate structure, and therefore cannot be considered eligible for TAA under those certifications.

The petitioner also alleges that imports of ring spun cotton yarn are lower in price than the domestic market, thus impacting the subject firm workers.

The price of ring spun cotton yarns is not relevant to the TAA investigation that were filed on behalf of workers producing ring spun cotton yarns.

The petitioner further claims that imported carded yarns impacted the closing of the subject plant. The petitioner supplied a chart with import trends of various yarn imports.

Although, the Department uses industry data in their TAA determinations, the Department of Labor normally examines if the “contributed importantly” test is met through a survey of the workers' firm's customers. A review of the survey results shows that the customers did not increase their imports of ring spun carded cotton yarn during the relevant period. Further, the ratio of imports of carded yarn to U.S. production is relatively low during the relevant period and therefore not a major contributing factor relating to the declines in sales and employment at the subject firm.

Conclusion

After review of the application and investigative findings, I conclude that there has been no error or misinterpretation of the law or of the facts which would justify reconsideration of the Department of Labor's prior decisions. Accordingly, the application is denied.

Signed at Washington, DC, this 30th day of April, 2002.
Edward A. Tomchick,
Director, Division of Trade Adjustment Assistance.

[FR Doc. 02-13541 Filed 5-29-02; 8:45 am]

BILLING CODE 4510-30-P